DEPARTMENT OF TRANSPORTATION

Surface Transportation Board

[STB Finance Docket No. 33934]

The Canadian American Railroad Company—Acquisition and Operation Exemption—Green Mountain Railroad Corporation

The Canadian American Railroad Company (CDAC), a Class III rail carrier, has filed a verified notice of exemption under 49 CFR 1150.41 to acquire and operate Green Mountain Railroad Company's (GMRC) exclusive freight railroad operations easement (easement) over approximately 40.3 route miles of rail line (line) owned by the State of Vermont (State).¹ The line extends from White River Jct., VT, to Wells River, VT, between milepost 123.2 and milepost 163.5.

¹ The Board had previously approved GMRC's acquisition of the easement in Green Mountain Railroad Corporation—Acquisition and Operation Exemption—Certain Rights of Boston and Maine Corporation, STB Finance Docket No. 33829 (STB served Dec. 20, 1999). According to the verified notice in STB Finance Docket No. 33934, the State, pursuant to the easement and an operating agreement between the State and GMRC, has the power to cause GMRC to convey the easement to CDAC.

Because CDAC's projected annual revenues will exceed $5 million, CDAC has certified to the Board on September 18, 2000 that the required notice of the transaction was posted at the workplace of the employees on the affected line on September 15, 2000. See 49 CFR 1150.42(e). According to CDAC's certification, the employees on the affected line are not represented by a labor organization and therefore no notice to labor organizations was required. CDAC stated in its verified notice that the transaction was scheduled to be consummated ten days after the effective date of the approval of the conveyance of the easement by the Board.²

² Due to timing of CDAC's certification to the Board, effectiveness of the exemption under normal circumstances would have been delayed until November 17, 2000 (60 days after CDAC's certification to the Board that it had complied with the Board's rule at 49 CFR 1150.42(e)). In a decision in this proceeding served on October 10, 2000, however, the Board granted the request by CDAD for waiver of the remainder of the 60-day period, as measured from the certification date to the Board, to allow the exemption to become effective on October 10, 2000.

If the notice contains false or misleading information, the exemption is void ab initio. Petitions to revoke the exemption under 49 U.S.C. 10502(d) may be filed at any time. The filing of a petition to revoke does not automatically stay the transaction.

An original and 10 copies of all pleadings, referring to STB Finance Docket No. 33934, must be filed with the Surface Transportation Board, Office of the Secretary, Case Control Unit, 1925 K Street, NW., Washington, DC 20423-0001. In addition, a copy of each pleading must be served on John Broadley, Esq., John H. Broadley & Associates, 1054 31st Street, NW., Suite 200, Washington, DC 20007.

Board decisions and notices are available on our website at “WWW.STB.DOT.GOV.”

Dated: October 10, 2000.
By the Board, David M. Konschnik, Director, Office of Proceedings.
Vernon A. Williams,
Secretary.

[FR Doc. 00-26500 Filed 10-13-00; 8:45 am]

BILLING CODE 4915-00-P